DEPARTMENT OF THE INTERIOR

National Park Service

Notice of Inventory Completion: Department of Anthropology Museum at the University of California, Davis, Davis, CA

Correction

In notice document E6-8447 beginning on page 31204 in the issue of Thursday, June 1, 2006, make the following correction:

On page 31204, in the third column, in the sixth line from the bottom of the page, “510 70, 1,47080, and 3,31090” should read “510+/-70, 1,470+/-80, 3,310+/-90”.

[FR Doc. Z6-8447 Filed 8-18-06; 8:45 am]

BILLING CODE 1505-01-D